DEPARTMENT OF COMMERCE

International Trade Administration

[A-570-937]

Citric Acid and Certain Citrate Salts From the People's Republic of China: Final Results of Second Expedited Sunset Review of Antidumping Duty Order

AGENCY: Enforcement and Compliance, International Trade Administration, Department of Commerce.

SUMMARY: As a result of this sunset review, the Department of Commerce (Commerce) finds that revocation of the antidumping duty (AD) order on citric acid and certain citrate salts from the People's Republic of China (China) would be likely to lead to a continuation or recurrence of dumping, at the levels identified in the “Final Results of Sunset Review” section of this notice.

DATES: Applicable August 17, 2020.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On May 29, 2009, Commerce published in the Federal Register a notice of the AD order on citric acid and certain citrate salts from China.¹ On May 1, 2020, Commerce published its initiation of the second sunset review of the Order, pursuant to section 751(c) of the Tariff Act of 1930, as amended (the Act).² On May 18, 2020, Commerce received a timely and complete notice of intent to participate in the sunset review in relation to the order on subject merchandise from China from domestic interested parties ³ within the deadline specified in 19 CFR 351.218(d)(1)(i).⁴ The domestic interested parties claimed interested party status pursuant to section 771(9)(C) of the Act as manufacturers in the United States of the domestic like product.⁵

¹ See Citric Acid and Certain Citrate Salts from Canada and the People's Republic of China: Antidumping Duty Orders, 74 FR 25703 (May 29, 2009) (Order).

² See Initiation of Five-Year (Sunset) Reviews, 85 FR 25386 (May 1, 2020).

³ The domestic interested parties are Archer Daniels Midland Company; Cargill, Incorporated; and Tate & Lyle Ingredients Americas LLC (collectively, domestic interested parties).

⁴ See Domestic Interested Parties' Letter, “Second Five-Year (`Sunset') Review Of Antidumping And Countervailing Duty Orders On Citric Acid And Certain Citrate Salts from the People's Republic of China: Domestic Industry's Notice Of Intent To Participate,” dated May 18, 2020.

⁵ Id. at 2.

On June 1, 2020, the domestic interested parties filed a timely and adequate substantive response within the deadline specified in 19 CFR 351.218(d)(3)(i).⁶ Commerce did not receive substantive responses from any respondent interested party with respect to the Order covered by this sunset review. As a result, pursuant to section 751(c)(3)(B) of the Act and 19 CFR 351.218(e)(1)(ii)(C)(2), Commerce conducted an expedited (120-day) sunset review of the Order.

⁶ See Domestic Interested Parties' Letter, “Second Five-Year (`Sunset') Review Of Antidumping Duty Order On Citric Acid And Certain Citrate Salts from the People's Republic of China: Domestic Industry's Substantive Response,” dated June 1, 2020.

Scope of the Order

The scope of the order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of the order also includes all forms of crude calcium citrate, including dicalcium citrate monohydrate, and tricalcium citrate tetrahydrate, which are intermediate products in the production of citric acid, sodium citrate, and potassium citrate. The scope of the order does not include calcium citrate that satisfies the standards set forth in the United States Pharmacopeia and has been mixed with a functional excipient, such as dextrose or starch, where the excipient constitutes at least 2 percent, by weight, of the product. The scope of the order includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (HTSUS), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, our written description of the scope is dispositive.

Analysis of Comments Received

A complete discussion of all issues raised in this sunset review, including the likelihood of continuation or recurrence of dumping in the event of revocation of the Order and the magnitude of the margins likely to prevail if the Order were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn/. The signed and electronic versions of the Issues and Decision Memorandum are identical in content.

Final Results of Sunset Review

Pursuant to sections 751(c)(1) and 752(c)(1) and (3) of the Act, Commerce determines that revocation of the Order on citric acid and certain citrate salts from China would be likely to lead to a continuation or recurrence of dumping, and that the magnitude of the dumping margins likely to prevail is up to 156.87 percent.

Notification Regarding Administrative Protective Orders

This notice also serves as the only reminder to parties subject to administrative protective order (APO) of their responsibility concerning the return or destruction of proprietary information disclosed under an APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218(f)(3).

Dated: August 11, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

A. Likelihood of Continuation or Recurrence of Dumping

B. Magnitude of the Dumping Margins Likely To Prevail

VII. Final Results of Sunset Review

VIII. Recommendation

[FR Doc. 2020-17920 Filed 8-14-20; 8:45 am]

BILLING CODE 3510-DS-P